DEPARTMENT OF TRANSPORTATION

Federal Highway Administration

Final Federal Agency Actions on Proposed Highway in North Carolina

AGENCY: Federal Highway Administration (FHWA), DOT.

ACTION: Notice; correction.

SUMMARY: This notice corrects an error in the FHWA notice published on February 17, 2009, at 74 FR 7535. The notice announced that actions taken by the United States Army Corps of Engineers (USACE) and other Federal agencies were final within the meaning of 23 U.S.C. 139(I)(1). The actions related to a proposed highway project, the Triangle Parkway, which begins at NC 540 in Wake County and ends at I-40 in Durham County, North Carolina. The Triangle Parkway is also known as State Transportation Improvement Program Project U-4763B. Those actions granted licenses, permits, and approvals for the project.

FOR FURTHER INFORMATION CONTACT: Mr. George Hoops, P.E., Major Projects Engineer, Federal Highway Administration, 310 New Bern Avenue, Suite 410, Raleigh, North Carolina, 27601-1418, Telephone: (919) 747-7022; e-mail: george.hoops@fhwa.dot.gov. (Regular business hours are 8 a.m. to 5 p.m.). Ms. Jennifer Harris, P.E., Staff Engineer, North Carolina Turnpike Authority, 5400 Glenwood Avenue, Suite 400, Raleigh, North Carolina, 27612, Telephone: (919) 571-3004; e-mail: jennifer.harris@ncturnpike.org. (Regular business hours are 8 a.m. to 5 p.m.). Mr. Eric Alsmeyer, Project Manager, U.S. Army Corps of Engineers, Raleigh Regulatory Field Office, 3331 Heritage Trade Drive, Suite 105, Wake Forest, North Carolina, 27587, Telephone: (919) 554-4884, extension 23; e-mail: Eric.C.Alsmeyer@usace.army.mil (Regular business hours are 8 a.m. to 5 p.m.).

SUPPLEMENTARY INFORMATION: On February 17, 2009, at 74 FR 7535, the FHWA issued a notice announcing that the USACE had taken final action within the meaning of 23 U.S.C. 139(I)(1) by issuing permits and approvals for the Triangle Parkway, a 3.4-mile long, multi-lane, fully access-controlled, new location roadway. The SUPPLEMENTARY INFORMATION section of that notice listed an incorrect Department of the Army Permit Number. The purpose of this notice is to correct the Department of the Army Permit Number. The correct Department of the Army Permit Number is 200620445.

(Catalog of Federal Domestic Assistance Program Number 20.205, Highway Planning and Construction. The regulations implementing Executive Order 12372 regarding intergovernmental consultation on Federal programs and activities apply to this program.)

Authority: 23 U.S.C. 139(I)(1).

Issued on: February 20, 2009.
George Hoops,
Major Projects Engineer, Federal Highway Administration, Raleigh, North Carolina.

[FR Doc. E9-4269 Filed 2-27-09; 8:45 am]

BILLING CODE 4910-RY-P